DEPARTMENT OF HEALTH AND HUMAN SERVICES

Agency for Healthcare Research and Quality

HHS Intent To Publish Grant and Contract Solicitations for Comparative Effectiveness Research (CER) Projects With Funds Allocated to the Office of the Secretary From the American Recovery and Reinvestment Act (ARRA)

AGENCY: Agency for Healthcare Research and Quality (AHRQ), HHS.

ACTION: Notice of intent.

SUMMARY: The Department of Health and Human Services announces its intention to support new CER projects with funds allocated by the American Recovery and Reinvestment Act (ARRA). The ARRA appropriated $400 million to the Office of the Secretary for support of CER. AHRQ has been designated point of contact for management of these funds.

Prioritization of the OS ARRA CER allocation was determined by several factors: public input, the Comparative Effectiveness Research-Coordination Implementation Team, the Federal Coordinating Council for Comparative Effectiveness Research (FCC), and the Institute of Medicine Report on CER. OS ARRA CER projects will focus, initially, on either (1) one of the 14 priority conditions established by the Secretary of the Department of Health and Human Services under Section 1013 of the Medicare Prescription Drug, Improvement, and Modernization Act of 2003, (2) 100 Institute of Medicine topic recommendations, or (3) topics that fall into one of the AHRQ identified evidence gaps or are identified in the FCC report. An additional integral focus for these OS ARRA CER funds are the priority populations, which include low income groups; minority groups; women; children; the elderly; and individuals with special health care needs, including individuals with disabilities and individuals who need chronic care or end-of-life health care. The CER solicitations will come from a diverse set of divisions and agencies across the Department of Health and Human Services.

DATES: HHS anticipates grant and contract solicitations to be published over the next several months.

ADDRESSES: The future CER funding opportunity announcements will be published in the NIH Guide: http://grants.nih.gov/grants/guide/index.html and on Grants.gov.: http://www.grants.gov/. Contract solicitations can be found on the Federal Business Opportunity site at https://www.fbo.gov/index?cck=1&au=&ck=.

FOR FURTHER INFORMATION CONTACT: Until the solicitations are published, AHRQ cannot provide information on their contents.

Direct any general comments regarding the OS ARRA CER program to: Kathleen Kendrick, Deputy Director, Office of the Director, Agency for Healthcare Research and Quality, 540 Gaither Road, Rockville, MD 20850, Telephone: 301-427-1200, e-mail address: ARRA Support@AHRQ.HHS.gov.

SUPPLEMENTARY INFORMATION:

Background

The American Recovery and Reinvestment Act (ARRA) provided $1.1 billion for comparative effectiveness research (CER). The Act allocated $300 million to the Agency for Healthcare Research and Quality (AHRQ), $400 million to the National Institutes of Health (NIH), and $400 million to the Office of the Secretary (OS) of the Department of Health and Human Services (HHS). These funds are dedicated specifically towards CER and must be obligated by the end of fiscal year 2010.

Comparative Effectiveness Research Initiative Description

The Department of Health and Human Service's overall goal for the investment in comparative effectiveness research is to promote high quality care through broad availability of information that helps clinicians and patients match the best science to individual needs and preferences. Moreover, the investment can build a sustainable foundation for CER so that it will enable—now and in the future the United States healthcare system to deliver the highest quality and best value care to all Americans.

Funding Opportunity Announcements soliciting grant applications and Requests for Contracts for CER will provide $210.5 million for data infrastructure and related research, $89.5 million for dissemination and translation, $71 million for research, $7.6 million for inventory and evaluation projects and $4 million for salary and benefits for ARRA-related staff and administrative support.

An additional, $17.4 million will be allocated to projects that address any gaps within the new and existing CER programs.

Dated: December 30, 2009.
Carolyn M. Clancy,
AHRQ, Director.

[FR Doc. E9-31340 Filed 1-6-10; 8:45 am]

BILLING CODE 4160-90-M